NATIONAL SCIENCE FOUNDATION

Notice of Permit Applications Received Under the Antarctic Conservation Act of 1978 (Pulic Law 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 5, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2006-002

1. Applicant: Thomas W. Yelvington, Raytheon Technical Services Company LLC, Polar Services, 7400 S. Tucson Way, Centennial, CO 80112-3938.

Activity for Which Permit Is Requested

Enter Antarctic Specially Protected Areas. The applicant plans to enter Litchfield Island (ASPA #113) to remove (for inspection and resupply) the survival cache located on the island. The cache is required for boating safety in the Palmer Station vicinity. Entry into the site is necessary to inspect the condition of the notification signs that Litchfield is an Antarctic Specially Protected Area.

Location

Litchfield Island, Arthur Harbor (ASPA #112).

Dates

May 1, 2005 to August 31, 2010.

Permit Application No. 2006-003

2. Applicant: Thomas W. Yelvington, Raytheon Technical Services Company LLC, Polar Services, 7400 S. Tucson Way, Centennial, CO 80112-3938.

Activity for Which Permit Is Requested

Enter Antarctic Specially Protected Areas. The applicant plans to enter the Western Shore of Admiralty Bay (ASPA #128) to transit to the field station hut at Copacabana Beach for the purpose of moving personnel and supplies from ship to shore via zodiac, assist in station opening and closing, and maintenance and servicing of station facilities and equipment.

Location

Western Shore of Admiralty Bay, King George Island (ASPA #128).

Dates

May 1, 2005 to August 31, 2010.

Permit Application No. 2006-004

3. Applicant: Thomas W. Yelvington, Raytheon Technical Services Company LLC, Polar Services, 7400 S. Tucson Way, Centennial, CO 80112-3938.

Activity for Which Permit Is Requested

Take. The applicant plans to herd, relocate or remove seals, penguins or other seabirds from station operational areas for the protection of the animals and safety of station personnel and equipment.

Location

Palmer Station, Anvers Island, Antarctic, Antarctic Peninsula.

Dates

May 1, 2005 to August 31, 2010.

Permit Application No. 2006-005

4. Applicant: Rae Natalie Prosser Goodall, Sarmiento 44, 9410 Ushuaia, Tierra del Fuego, Argentina.

Activity for Which Permit Is Requested

Take. The applicant plans to salvage bones of dead animals (seals, penguins, dolphins, whales or seabirds) opportunistically found on the beaches in the Antarctic Peninsula Region. Salvaged materials will be cleaned, numbered and deposited in a collection housed in the Museo Actshun de Aves y Mamiferos Marinos Australes at Harberton Station, Tierra del Fuego. The skeletons from Antarctic waters are especially useful in a comparison study with skeletal collections from southernmost South America. Specimens are also available to other scientist for study.

Location

Antarctic Peninsula, South Shetland Islands and adjacent islands.

Dates

October 1, 2005, to Septebmer 30, 2010.

Permit Application No. 2006-006

5. Applicant: Thomas W. Yelvington, Raytheon Technical Services Company LLC, Polar Services, 7400 S. Tucson Way, Centennial, CO 80112-3938.

Activity for Which Permit Is Requested

Take. The applicant plans to herd, relocated or remove seals, penguins or other seabirds from station operational areas (airfields, roads and ice pier) for the protection of the animals and safety of station personnel and equipment.

Location

McMurdo Station, Ross Island and vicinity.

Dates

May 1, 2005 to August 31, 2010.

Permit Application No. 2006-007

6. Applicant: Thomas W. Yelvington, Raytheon Technical Services Company LLC, Polar Services, 7400 S. Tucson Way, Centennial, CO 80112-3938.

Activity for Which Permit Is Requested

Enter Antarctic Specially Protected Area. The applicant plans to transit through the southwest section of Northwest White Island (ASPA #137) enroute to the Telecommunications Facility located on Black Island. This route has been deemed the only safe surface traverse route to the telecommunications equipment on Black Island. While transiting through the White Island Protected Area, the approach will be greater than 50 meters from the seal population (Leptonychotes weddellii). McMurdo Station Personnel need to routinely access the Black Island Telecommunications Facility for routine and emergency maintenance and year-round repairs.

Location

Northwest White Island (ASPA #137).

Dates

May 1, 2005 to August 31, 2010.

Permit Application No. 2006-008

7. Applicant: Thomas W. Yelvington, Raytheon Technical Services Company LLC, Polar Services, 7400 S. Tucson Way, Centennial, CO 80112-3938.

Activity for Which Permit Is Requested

Enter Antarctic Specially Protected Area. The U.S. and New Zealand Jointly operated Hallett Station at Cape Hallett from 1967 to 1973, at which time the station was abandoned. The applicant, in a joint effort with Antarctic New Zealand, plans to enter Cape Hallett (ASPA #106) to conduct remediation work entailing removal of structures and addressing areas of fuel contamination.

Location

Cape Hallett, Victoria Land (ASPA #106).

Dates

May 1, 2005 to October 1, 2010.

Nadene G. Kennedy,
Permit Officer, Office of Polar Programs.

[FR Doc. 05-6710 Filed 4-4-05; 8:45 am]

BILLING CODE 7555-01-M